DEPARTMENT OF TRANSPORTATION

Federal Aviation Administration

26th Meeting: RTCA Special Committee 206: Aeronautical Information and Meteorological Data Link

AGENCY: Federal Aviation Administration (FAA), DOT.

ACTION: Notice of RTCA Special Committee 206: Aeronautical Information and Meteorological Data Link Services meeting.

SUMMARY: The FAA is issuing this notice to advise the public of a meeting of RTCA Special Committee 206: Aeronautical Information and Meteorological Data Link Services.

DATES: The meeting will be held September 19-23, 2011 from 9 a.m. to 5 p.m.

ADDRESSES: The meeting will be held at Harris Corporation, Capitol Gallery Building, 600 Maryland Ave., SW., Suite 850 East, Washington, DC 20024. For further information regarding this meeting contact AvMet Applications, Inc., at (703) 835-9191 or (703) 351-5658.

FOR FURTHER INFORMATION CONTACT: RTCA Secretariat, 1150 18th Street, NW., Suite 910, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 206: EUROCAE WG 76 Plenary: AIS and MET Data Link Services meeting. The agenda will include:

September 19-Monday

9 a.m.

• Opening Plenary.

• Chairmen's remarks and Host's comments.

• Introductions.

• Approval of previous meeting minutes.

• Review and approve meeting agenda.

• Schedule for this week.

• Action Item Review.

• Sub Group 1, Work Plan—SG1 Chairmen.

• Sub Group 2 Work Plan—SG2 Chairmen.

• Sub Group 3 Work Plan—SG3 Chairmen.

• Discuss readiness for release of DO-267A Revision for FRAC process.

• Discuss readiness for release of OSED document for FRAC process.

• Discuss status of Deliverables in TOR and potential changes.

• Discuss the certification and liability issues surrounding the use of MET information on the flight deck (all SG's).

• OGC Sensor Modeling Language Presentation (SG2 and SG3).

September 20—Tuesday

9 a.m.

• SG1, SG2, and SG3 Meetings.

September 21—Wednesday

9 a.m.

• SG1, SG2, and SG3 Meetings.

September 22—Thursday

9 a.m.

• SG1, SG2, and SG3 Meetings.

2 p.m.

• Plenary Session.

• Sub Group 1 Reports.

• Sub Group 2 Reports.

• Sub Group 3 Reports.

• Action Item Review.

• Meeting Plans and Dates.

• Discuss Status of Deliverables in TOR and potential changes.

• Decision to release DO-267A Revision Document for FRAC Process.

• Other Business.

September 23—Friday

9 a.m.

• SG1, SG2, and SG3 Meetings.

2 p.m.

• Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 26, 2011.
Robert L. Bostiga,
RTCA Advisory Committee.

[FR Doc. 2011-22460 Filed 8-31-11; 8:45 am]

BILLING CODE 4910-13-P